DEPARTMENT OF HOUSING AND URBAN DEVELOPMENT

[Docket No. FR-5043-N-05]

Notice of Proposed Information Collection for Public Comment on the: 2007 American Housing Survey—National Sample; 2007 American Housing Survey—Metropolitan Sample

AGENCY: Office of Policy Development and Research, HUD.

ACTION: Notice.

SUMMARY: The proposed information collection requirements described below will be submitted to the Office of Management and Budget (OMB) for review, as required by the Paperwork Reduction Act of 1995, Public Law 104-13 (44 U.S.C. 3506(c)(2)(A)). The Department is soliciting public comments on the subject proposal.

DATES: Comments Due Date: September 22, 2006.

ADDRESSES: Interested persons are invited to submit comments regarding this proposal. Comments should refer to the proposal by name and/or OMB Control Number and should be sent to: Reports Liaison Officer, Office of Policy Development and Research, Department of Housing and Urban Development, 451 7th Street, SW., Room 8226, Washington, DC 20410.

FOR FURTHER INFORMATION CONTACT: Ronald J. Sepanik at (202) 708-1060, Ext. 5887 (this is not a toll-free number), or Barbara T. Williams, Bureau of the Census, HHES Division, Washington, DC 20233, (301) 763-3235 (this is not a toll-free number). Copies of the proposed forms and other available documents submitted to OMB may be obtained from Mr. Ronald J. Sepanick or Ms. Barbara Williams.

SUPPLEMENTARY INFORMATION: The Department will submit the proposed information collection to OMB for review, as required by the Paperwork Reduction Act of 1995 (44 U.S.C. Chapter 35, as amended).

This Notice is soliciting comments from members of the public and affected agencies concerning the proposing collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology that will reduce burden, (e.g., permitting electronic submission of responses).

This Notice also lists the following information:

(A) Title of Proposal: 2007 American Housing Survey—National Sample. OMB Control Number: 2528-0017.

(B) Title of Proposal: 2007 American Housing Survey—Metropolitan Sample. OMB Control Number: 2528-0016.

Description of the Need for the Information and Proposed Use: The 2007 American Housing Survey National Sample (AHS-N) and the 2007 American Housing Survey Metropolitan Sample (AHS-MS) provide a periodic measure of the size and composition of the housing inventory with the former capturing it for the country and the latter for select metropolitan areas. Title 12, United States Code, Sections 1701Z-1, 1701Z-2(g), and 1701Z-10a mandates the collection of this information.

The 2007 surveys are similar to previous AHS-N and ASH-MS surveys in that they collect data on subjects such as the amount and types of changes in the inventory, the physical condition of the inventory, the characteristics of the occupants, the persons eligible for and beneficiaries of assisted housing by race and ethnicity, and the number and characteristics of vacancies. Policy analysts, program managers, budget analysts, and Congressional staff use AHS data to advise executive and legislative branches about housing conditions and the suitability of public policy initiatives. Academic researchers and private organizations also use AHS data in efforts of specific interest and concern to their respective communities.

The Department of Housing and Urban Development (HUD) needs the AHS data for two important uses.

1. With the data, policy analysts can monitor the interaction among housing needs, demand and supply, as well as changes in housing conditions and costs, to aid in the development of housing policies and the design of housing programs appropriate for different target groups, such as first-time home buyers and the elderly.

2. With the data, HUD can evaluate, monitor, and design HUD programs to improve efficiency and effectiveness.

Agency Form Numbers: Computerized Versions of AHS-21/61, AHS-22/62 and AHS-23/63.

Members of affected public: Households.

Estimation of the total number of hours needed to prepare the information collection including number of respondents, frequency of response, and hours of response:

| National sample | Metropolitan sample
Number of Respondents | 59,581 | 24,990
Estimate Responses per Respondent | (*) | (**)
Time (minutes) per respondent | 34 | 34
Total hours to respond | 33,763 | 14,161
* One (1) every two years.
** One (1) every six to eight years.

Respondent's Obligation: Voluntary.

Status of the proposed information collection: Pending OMB approval.

Authority: Title 13 U.S.C. Section 9(a), and Title 12, U.S.C., Section 1701z-1 et seq.

Dated: July 17, 2006.
Darlene F. Williams,
Assistant Secretary for Policy Development and Research.

[FR Doc. 06-6433 Filed 7-21-06; 8:45 am]

BILLING CODE 4210-67-M